FEDERAL COMMUNICATIONS COMMISSION

47 CFR Part 73

[DA 04-2907]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and Amendment of the Commission's Rules to permit FM Channel and Class Modifications by Applications, 8 FCC Rcd 4735 (1993).

DATES: Effective September 28, 2004.

FOR FURTHER INFORMATION CONTACT: Rolanda F. Smith, Media Bureau, (202) 418-2180.

SUPPLEMENTARY INFORMATION: This is a summary of the Commission's Report and Order, adopted September 15, 2004 and released September 17, 2004. The full text of this Commission decision is available for inspection and copying during regular business hours at the FCC Reference Information Center, Portals II, 445 12th Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will not send a copy of the Report & Order in this proceeding pursuant to the Congressional Review Act, see 5 U.S.C. 801(a)(1)(A), because the adopted rules are rules of particular applicability.

List of Subjects in 47 CFR Part 73

Radio, Radio broadcasting.

Part 73 of Title 47 of the Code of Federal Regulations is amended as follows:

PART 73—RADIO BROADCASTING SERVICES

1. The authority citation for Part 73 continues to read as follows:

Authority: 47 U.S.C. 154, 303, 334, and 336.

§ 73.202 [Amended]

2. Section 73.202(b), the Table of FM Allotments under Arizona, is amended by removing Channel 240C1 and adding Channel 240C0 at Cottonwood.

3. Section 73.202(b), the Table of FM Allotments under Arkansas, is amended by removing Channel 265A and adding Channel 265C3 at Arkadelphia.

4. Section 73.202(b), the Table of FM Allotments under California, is amended by removing Channel 279C1 and adding Channel 279C0 at Garberville.

5. Section 73.202(b), the Table of FM Allotments under Colorado, is amended by removing Channel 288C2 and adding Channel 288C1 at Timnath.

6. Section 73.202(b), the Table of FM Allotments under Florida, is amended by removing Channel 271C2 and adding Channel 271C1 at Rock Harbor.

7. Section 73.202(b), the Table of FM Allotments under Georgia, is amended by removing Channel 264C1 and adding Channel 264C0 at Brunswick; by removing Channel 297C and adding Channel 297C0 at Columbus; by removing Channel 240C1 and adding Channel 240C0 at Dublin; and by removing Channel 298A and adding Channel 298C3 at Wrightsville.

8. Section 73.202(b), the Table of FM Allotments under Hawaii, is amended by removing Channel 286C2 and adding Channel 287C2 at Keaau.

9. Section 73.202(b), the Table of FM Allotments under Idaho, is amended by removing Channel 222A and Channel 282A and by adding Channel 222C2 and 279C1 at Victor.

10. Section 73.202(b), the Table of FM Allotments under Iowa, is amended by removing Channel 227C1 and adding Channel 227C0 at Des Moines.

11. Section 73.202(b), the Table of FM Allotments under Michigan, is amended by removing Channel 229A and adding Channel 230C2 at Newberry.

12. Section 73.202(b), the Table of FM Allotments under New Mexico, is amended by removing Channel *258A and adding Channel *258C3 at Roswell.

13. Section 73.202(b), the Table of FM Allotments under North Carolina, is amended by removing Channel 285C3 and adding Channel 285C2 at Calabash.

14. Section 73.202(b), the Table of FM Allotments under Utah, is amended by removing Channel 239C and adding Channel 240C1 at Delta.

15. Section 73.202(b), the Table of FM Allotments under Virginia, is amended by removing Channel 285C3 and adding Channel 285C2 at Roanoke.

16. Section 73.202(b), the Table of FM Allotments under Washington, is amended by removing Channel 256C1 and adding Channel 256C2 at Walla Walla.

17. Section 73.202(b), the Table of FM Allotments under Wyoming, is amended by removing Channel 292C3 and adding Channel 292A at Cheyenne.

Federal Communications Commission.
John A. Karousos,
Assistant Chief, Audio Division, Media Bureau.

[FR Doc. 04-21727 Filed 9-27-04; 8:45 am]

BILLING CODE 6712-01-P